DEPARTMENT OF COMMERCE

National Oceanic and Atmospheric Administration

[I.D.021100F]

New England Fishery Management Council; Public Meetings

AGENCY: National Marine Fisheries Service (NMFS), National Oceanic and Atmospheric Administration (NOAA), Commerce.

ACTION: Notice of public meetings.

SUMMARY: The New England Fishery Management Council (Council) is scheduling public meetings of its Scallop Committee and Scallop Advisory Panel in March, 2000 to consider actions affecting New England fisheries in the exclusive economic zone (EEZ). Recommendations from these groups will be brought to the full Council for formal consideration and action, if appropriate.

DATES: The meetings will held between Tuesday, March 7, 2000 and Tuesday, March 21, 2000. See SUPPLEMENTARY INFORMATION for specific dates and times.

ADDRESSES: The meetings will be held in Warwick, RI and Peabody, MA. See SUPPLEMENTARY INFORMATION for specific locations.

Council address: New England Fishery Management Council, 50 Water Street, Mill 2, Newburyport, MA 01950; telephone: (978) 465-0492.

FOR FURTHER INFORMATION CONTACT: Paul J. Howard, Executive Director, New England Fishery Management Council; (978) 465-0492.

SUPPLEMENTARY INFORMATION:

Meeting Dates and Agendas

Tuesday, March 7, 2000, 10 a.m.—Scallop Committee Meeting

Location: Radisson Hotel, 2081 Post Road, Warwick, RI 02886; telephone: (401) 739-3000.

The committee will evaluate scoping comments and recommend to the Council the range of issues to be considered for inclusion in Amendment 10 to the Atlantic Sea Scallop Fishery Management Plan (FMP).

Monday, March 20, 2000, 10 a.m.—Scallop Advisory Panel Meeting

Location: Holiday Inn, One Newbury Street, Route 1, Peabody, MA 01960; telephone: (978) 535-4600.

The panel will develop and recommend to the Scallop Committee management alternatives and options to be considered for inclusion in Amendment 10 to the Atlantic Sea Scallop FMP.

Tuesday, March 21, 2000, 10 a.m.—Scallop Committee Meeting

Location: Holiday Inn, One Newbury Street, Route 1, Peabody, MA 01960; telephone: (978) 535-4600.

The committee will evaluate comments and recommendations for management alternatives and options for Amendment 10 to the Atlantic Sea Scallop FMP. These alternatives and options may be subsequently analyzed or revised at future meetings and recommended to the Council for approval at its May 3-4, 2000 meeting.

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: February 15, 2000.
Bruce C. Morehead,
Acting Director, Office of Sustainable Fisheries, National Marine Fisheries Service.

[FR Doc. 00-3928 Filed 2-17-00; 8:45 am]

BILLING CODE 3510-22-F